DEPARTMENT OF HEALTH AND HUMAN SERVICES

Public Meeting of the President's Council on Bioethics on June 12-13, 2003

AGENCY: The President's Council on Bioethics, HHS.

ACTION: Notice.

SUMMARY: The President's Council on Bioethics will hold its eleventh meeting, at which it will discuss, among other things, current research into overcoming immune rejection in embryonic and adult stem-cell therapies (Silviu Itescu, M.D., Columbia University College of Physicians and Surgeons). The Council will hear testimony from various interested parties on current and possible future regulation of biotechnologies that touch the beginnings of human life. Panel 1: Robert Brzyski, M.D., Society for Assisted Reproductive Technology; John Bruchalski, M.D., Tepeyac Family Center, Wash., DC (invited); Kathy Hudson, Ph.D., Genetics and Public Policy Center; Pamela Madsen, American Infertility Association; Mary Mahowald, Ph.D. (University of Chicago); and David Smith, Ph.D., Indiana University. Panel 2: Richard Doerflinger, U.S. Catholic Bishops Conference; Andrew Kimbrell, International Center for Technology Assessment; William Kristol, Bioethics Project; Michael Manganiello, Coalition for the Advancement of Medical Research; Maxine Singer, Ph.D., Chair, Committees on Science, Engineering, & Public Policy, National Academies; Michael Werner, Biotechnology Industry Organization. Subjects discussed at past Council meetings (and potentially touched on at this meeting) include: human cloning; embryonic stem cell research; the patentability of human genes, tissues, and organisms; assisted reproduction; preimplantation genetic diagnosis (PGD) and screening; sex selection techniques; inheritable genetic modification (IGM); international models of biotech regulation; organ procurement for transplantation; extra-therapeutic powers to enhance or improve human mood, memory, and muscles; and research to extend the human lifespan.

DATES: The meeting will take place Thursday, June 12, 2003, from 9:00 am to 5:15 pm ET; and Friday, June 13, 2003, from 8:30 am to 12:30 pm ET.

ADDRESSES: Wyndham Washington DC, 1400 M Street, NW., Washington, DC 20005.

Public Comments: The meeting agenda will be posted at http://www.bioethics.gov. Members of the public may comment, either in person or in writing. A period of time will be set aside during the meeting to receive comments from the public, beginning at 11:30 am, on Friday, June 13. Comments will be limited to no more than five minutes per speaker or organization. Please inform Ms. Diane Gianelli, Director of Communications, in advance of your intention to make a public statement, giving her your name, affiliation, and a brief description of the topic or nature of your comments. To submit a written statement, mail or e-mail it to Ms. Gianelli at one of the addresses given below.

FOR FURTHER INFORMATION CONTACT: Ms. Diane Gianelli, Director of Communications, The President's Council on Bioethics, Suite 600, 1801 Pennsylvania Avenue, Washington, DC 20006. Telephone: 202/296-4669. E-mail: info@bioethics.gov. Web site: http://www.bioethics.gov.

Dated: May 21, 2003.
Dean Clancy,
Executive Director, The President's Council on Bioethics.

[FR Doc. 03-13325 Filed 5-28-03; 8:45 am]

BILLING CODE 4110-60-U